DEPARTMENT OF LABOR

Employment and Training Administration

[TA-W-63,451]

Columbia Falls Aluminum Company, LLC, Columbia Falls, MT; Notice of Termination of Investigation

Pursuant to Section 221 of the Trade Act of 1974, as amended, an investigation was initiated on May 30, 2008 in response to a petition filed by a company official on behalf of workers of Columbia Falls Aluminum Company, LLC, Columbia Falls, Montana.

The petitioner has requested that the petition be withdrawn. Consequently, the investigation has been terminated.

Signed at Washington, DC, this 18th day of June 2008.
Linda G. Poole,
Certifying Officer, Division of Trade Adjustment Assistance.

[FR Doc. E8-14304 Filed 6-24-08; 8:45 am]

BILLING CODE 4510-FN-P